GENERAL SERVICES ADMINISTRATION

[Notice-MA-2020-01; Docket No. 2020-0002; Sequence No. 5]

Relocation Allowances: Withholding Tax Allowance (WTA) and Relocation Income Tax Allowance (RITA) Eligibility

AGENCY: Office of Government-wide Policy (OGP), General Services Administration (GSA).

ACTION: Notice.

SUMMARY: The purpose of this notice is to inform Federal agencies that Federal Travel Regulation (FTR) Bulletin 20-04, pertaining to changes to eligibility for WTA and RITA impacted by recent changes to Federal law, has been published and is now available online at www.gsa.gov/ftrbulletins.

DATES: Applicability date: This notice applies to all individuals who are authorized reimbursement for relocation expenses under the FTR and who receive some or all reimbursements, direct payments, or indirect payments on or after January 1, 2018, and on or before December 31, 2025.

FOR FURTHER INFORMATION CONTACT: For clarification of content, please contact Mr. Rick Miller, Program Analyst, Office of Government-wide Policy, Office of Asset and Transportation Management, at 202-501-3822, or by email at travelpolicy@gsa.gov. Please cite Notice of FTR Bulletin 20-04.

Jessica Salmoiraghi,
Associate Administrator, Office of Government-wide Policy.

[FR Doc. 2020-03942 Filed 2-26-20; 8:45 am]

BILLING CODE 6820-14-P